INTERNATIONAL TRADE COMMISSION

19 CFR Part 210

Adjudication and Enforcement

AGENCY: U.S. International Trade Commission.

ACTION: Final rule.

SUMMARY: The U.S. International Trade Commission is adopting as a final rule the proposed rulemaking that revised certain provisions of the agency's rules for investigations and related proceedings under section 337 of the Tariff Act of 1930 (19 U.S.C. 1337) to provide for services of certain Commission documents by overnight delivery and provide one additional day to respond to Commission documents served by overnight delivery. These rules will ensure effective service of Commission documents on private parties in section 337 investigations and related proceedings.

DATES: Effective Date: March 23, 2007.

Applicability Date: The Commission will adopt procedures to implement the rules changes on April 2, 2007.

FOR FURTHER INFORMATION CONTACT: Clint A. Gerdine, Esq., telephone 202-708-2310, Office of the General Counsel, U.S. International Trade Commission, 500 E Street, SW., Washington, DC 20436. General information concerning the Commission may be obtained by accessing its Internet server (http://www.usitc.gov). Hearing-impaired persons are advised that information on the final rulemaking can be obtained by contacting the Commission's TDD terminal on 202-205-1810.

SUPPLEMENTARY INFORMATION: On December 8, 2006 (71 FR 71113), the Commission published a proposed rulemaking that would revise the text of § 210.6 by dividing the current text and designating the portions as paragraphs (a) and (b), adding a new paragraph (c), which provides that a party shall be given one additional day to respond to a Commission document when served by overnight delivery, and adding another new paragraph (d), which defines “overnight delivery”; and amending the text of § 210.7 by revising and redesignating paragraph 210.7(a) as paragraph (a)(1) and adding new paragraph (a)(2).

The sixty day public comment period for the proposed rulemaking closed on February 6, 2007. The Commission received one set of comments, from the ITC Trial Lawyers Association (ITCTLA), in response to the proposed rulemaking. The Commission has considered the ITCTLA comments to expand the scope of documents to be served by overnight delivery to include additional categories of documents. The Commission's response to these comments is that the Commission will consider whether to expand its procedures to include other types of documents after it has gained experience with the new service procedures. Thus, the Commission is adopting the proposed rule as a final rule without any changes.

Regulatory Analysis

The Commission has determined that the final rules do not meet the criteria described in Section 3(f) of Executive Order 12866 (58 FR 51735, Oct. 4, 1993) and thus do not constitute a significant regulatory action for purposes of the Executive Order.

The Regulatory Flexibility Act (5 U.S.C. 601 et seq.) is inapplicable to this rulemaking because it is not one for which a notice of rulemaking is required under 5 U.S.C. 553(b) or any other statute. Although the Commission has chosen to publish a notice of final rulemaking, these proposed regulations are “agency rules of procedure and practice,” and thus are exempt from the notice requirement imposed by 5 U.S.C. 553(b).

These final rules do not contain federalism implications warranting the preparation of a federalism summary impact statement pursuant to Executive Order 13132 (64 FR 43255, Aug. 4, 1999).

No actions are necessary under the Unfunded Mandates Reform Act of 1995 (2 U.S.C. 1501 et seq.) because the final rules will not result in the expenditure by State, local, and tribal governments, in the aggregate, or by the private sector, of $100,000,000 or more in any one year, and will not significantly or uniquely affect small governments.

The final rules are not major rules as defined by section 804 of the Small Business Regulatory Enforcement Fairness Act of 1996 (5 U.S.C. 801 et seq.). Moreover, they are exempt from the reporting requirements of the Contract With America Advancement Act of 1996 (Pub. L. 104-121) because they concern rules of agency organization, procedure, or practice that do not substantially affect the rights or obligations of non-agency parties.

The amendments are not subject to section 3504(h) of the Paperwork Reduction Act (44 U.S.C. 3501 et seq.), since they do not contain any new information collection requirements.

List of Subjects in 19 CFR Part 210

Administration practice and procedure, Business and industry, Customs duties and inspection, Imports, and Investigations.

For the reasons discussed in the supplementary information, the United States International Trade Commission amends 19 CFR part 210 as follows:

PART 210—ADJUDICATION AND ENFORCEMENT

1. The authority citation for part 210 continues to read as follows:

Authority: 19 U.S.C. 1333, 1335, and 1337.

2. Revise § 210.6 to read as follows:

§ 210.6 Computation of time, additional hearings, postponements, continuances, and extensions of time.

(a) Unless the Commission, the administrative law judge, or this or another section of this part specifically provides otherwise, the computation of time and the granting of additional hearings, postponements, continuances, and extensions of time shall be in accordance with §§ 210.14 and 210.16(d) of this chapter.

(b) Whenever a party has the right or is required to perform some act or to take some action within a prescribed period after service of a document upon it, and the document was served by mail, the deadline shall be computed by adding to the end of the prescribed period the additional time allotted under § 210.16(d), unless the Commission, the administrative law judge, or another section of this part specifically provides otherwise.

(c) Whenever a party has the right or is required to perform some act or to take some action within a prescribed period after service of a Commission document upon it, and the document was served by overnight delivery, the deadline shall be computed by adding one day to the end of the prescribed period, unless the Commission, the administrative law judge, or another section of this part specifically provides otherwise.

(d) “Overnight delivery” is defined as delivery by the next business day.

3. Amend § 210.7 by revising paragraph (a) to read as follows:

§ 210.7 Service of process and other documents; publication of notices.

(a) Manner of service. (1) The service of process and all documents issued by or on behalf of the Commission or the administrative law judge—and the service of all documents issued by parties under §§ 210.27 through 210.34 of this part—shall be in accordance with § 201.16 of this chapter, unless the Commission, the administrative law judge, or this or another section of this part specifically provides otherwise.

(2) The service of all initial determinations as defined in § 210.42 and all documents containing confidential business information—issued by or on behalf of the Commission or the administrative law judge—on a private party shall be effected by serving a copy of the document by overnight delivery—as defined in § 210.6(d)—on the person to be served, on a member of the partnership to be served, on the president, secretary, other executive officer, or member of the board of directors of the corporation, association, or other organization to be served, or, if an attorney represents any of the above before the Commission, by serving a copy by overnight delivery on such attorney.

* * * * *

Issued: March 15, 2007.
By Order of the Commission.
Marilyn R. Abbott,
Secretary to the Commission.

[FR Doc. E7-5177 Filed 3-22-07; 8:45 am]

BILLING CODE 7020-02-P